COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List a product and services to be furnished by nonprofit agencies employing persons who are blind or have other severe disabilities, and deletes from the Procurement List a service previously furnished by such agencies.

EFFECTIVE DATE: September 28, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On June 27, July 3, and July 11, 2003, the Committee for Purchase From People Who Are Blind or Severely Disabled published notice (68 FR 38288/38289, 39894 and 41297) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Product/NSN: Jumbo Butterfly Mop, M.R. 1035.

NPA: L.C. Industries For The Blind, Inc., Durham, North Carolina.

Contract Activity: Defense Commissary Agency (DeCA), Ft. Lee, Virginia.

Services

Service Type/Location: Commissary Custodial and Warehousing, Naval Education Training Center, Newport, Rhode Island.

NPA: Newport County Chapter, Rhode Island Association for Retarded Citizens, Middletown, Rhode Island.

Contract Activity: Defense Commissary Agency (DeCA)—East Region, Virginia Beach, Virginia.

Service Type/Location: Custodial Services, Patrick AFB, Florida.

NPA: Brevard Achievement Center, Inc., Rockledge, Florida.

Contract Activity: AFSPC-Patrick, Patrick AFB, Florida.

Service Type/Location: Janitorial/Custodial, Federal Building, U.S. Post Office and Courthouse, Hannibal, Missouri.

NPA: Learning Opportunities/Quality Works, Inc., Monroe City, Missouri.

Contract Activity: GSA/PBS, Kansas City, Missouri.

Service Type/Location: Janitorial/Custodial, New Federal Courthouse, Seattle, Washington.

NPA: Northwest Center for the Retarded, Seattle, Washington.

Contract Activity: GSA/PBS (Region 10), Auburn, Washington.

Service Type/Location: Laundry/Dry Cleaning, 911th Airlift Wing, Coraopolis, Pennsylvania.

NPA: Hancock County Sheltered Workshop, Inc., Weirton, West Virginia.

Contract Activity: 911th Airlift Wing (AFRES), Pittsburgh, Pennsylvania.

Service Type/Location: Mailroom Operation, Department of Commerce, Boulder Laboratories, Building 1 and 2, Boulder, Colorado.

NPA: Bayaud Industries, Inc., Denver, Colorado.

Contract Activity: National Oceanic and Atmospheric Administration, Boulder, Colorado.

Deletion

On June 20, 2003, the Committee for Purchase From People Who Are Blind or Severely Disabled published notice (68 FR 36972) of proposed deletion to the Procurement List. After consideration of the relevant matter presented, the committee has determined that the service listed below is no longer suitable for procurement by the Federal Government under 41 U.S.C. 46-48c and 41 CFR 51-2.4.

Regulatory Flexibility Act Certification

I certify that the following action will not have a significant impact on a substantial number of small entities. The major factors considered for this certification were:

1. The action may result in any additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Operation of Self Service Supply Store, GSA, Sam Nunn Federal Center, Atlanta, Georgia

NPA: Raleigh Lions Clinic for the Blind, Inc., Raleigh, North Carolina.

Contract Activity: GSA, Sam Nunn Federal Center, Atlanta, Georgia.

Louis R. Bartalot,
Acting Deputy Executive Director.

[FR Doc. 03-22146 Filed 8-28-03; 8:45 am]

BILLING CODE 6353-01-P